DEPARTMENT OF ENERGY

Federal Energy Regulatory Commission

[Docket No. EL14-59-000]

Powerex Corp. v. California Independent System Operator Corporation; Notice of Complaint

Take notice that on May 30, 2014, pursuant to section 206 of the Federal Energy Regulatory Commission's (Commission) Rules of Practice and Procedure, 18 CFR 385.206, and section 206 of the Federal Power Act, 16 U.S.C. 824e, Powerex Corp. (Powerex or Complainant), filed a formal complaint against California Independent System Operator Corporation (CAISO or Respondent) requesting that the Commission issue an order finding that CAISO should not have imposed Imbalance Energy charges related to a power disruption on August 18, 2013 caused by the Spring Peak fire and to direct CAISO to treat other Uncontrollable Forces going forward as events that do not trigger the imposition of Imbalance Energy charges, as more fully explained in the complaint.

Powerex certifies that copies of the complaint were served on the contacts for CAISO as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on June 30, 2014.

Dated: June 2, 2014.
Nathaniel J. Davis, Sr.,
Deputy Secretary.

[FR Doc. 2014-13275 Filed 6-6-14; 8:45 am]

BILLING CODE 6717-01-P